DEPARTMENT OF THE INTERIOR

Bureau of Ocean Energy Management, Regulation and Enforcement (BOEMRE)

Notice on Outer Continental Shelf Oil and Gas Lease Sales

AGENCY: Bureau of Ocean Energy Management, Regulation and Enforcement, Interior.

ACTION: List of restricted joint bidders.

SUMMARY: Pursuant to the authority vested in the Director of the Bureau of Ocean Energy Management, Regulation and Enforcement by the joint bidding provisions of 30 CFR 256.41, each entity within one of the following groups shall be restricted from bidding with any entity in any other of the following groups at Outer Continental Shelf oil and gas lease sales to be held during the bidding period May 1, 2011, through October 31, 2011. The List of Restricted Joint Bidders published in the Federal Register on January 24, 2011, covered the period November 1, 2010, through April 30, 2011.

Group I.

Exxon Mobil Corporation,

ExxonMobil Exploration Company.

Group II.

Shell Oil Company,

Shell Offshore Inc.,

SWEPI LP,

Shell Frontier Oil & Gas Inc.,

SOI Finance Inc.,

Shell Gulf of Mexico Inc.

Group III.

BP America Production Company,

BP Exploration & Production Inc.,

BP Exploration (Alaska) Inc.,

Group IV.

Chevron Corporation,

Chevron U.S.A. Inc.,

Chevron Midcontinent, L.P.,

Unocal Corporation,

Union Oil Company of California,

Pure Partners, L.P.

Group V.

ConocoPhillips Company,

ConocoPhillips Alaska, Inc.,

Phillips Pt. Arguello Production Company,

Burlington Resources Oil & Gas Company LP,

Burlington Resources Offshore Inc.,

The Louisiana Land and Exploration Company,

Inexeco Oil Company.

Group VI.

Eni Petroleum Co. Inc.,

Eni Petroleum US LLC,

Eni Oil US LLC,

Eni Marketing Inc.,

Eni BB Petroleum Inc.,

Eni US Operating Co. Inc.,

Eni BB Pipeline LLC.

Group VII.

Petrobras America Inc.,

Petroleo Brasileiro S.A.

Group VIII.

Statoil ASA,

Statoil Gulf of Mexico LLC,

Statoil USA E&P Inc.,

Statoil Gulf Properties Inc.

Group IX.

Total E&P, Inc.

Dated: April 27, 2011.
Michael R. Bromwich,
Director, Bureau of Ocean Energy Management, Regulation and Enforcement.

[FR Doc. 2011-12023 Filed 5-16-11; 8:45 am]

BILLING CODE 4310-MR-P